SMALL BUSINESS ADMINISTRATION

[Disaster Declaration #13768 and #13769]

Colorado Disaster Number CO-00065

AGENCY: U.S. Small Business Administration.

ACTION: Amendment 3.

SUMMARY: This is an amendment of the Presidential declaration of a major disaster for the State of Colorado (FEMA-4145-DR), dated 09/14/2013.

Incident: Severe Storms, Flooding, Landslides, and Mudslides.

Incident Period: 09/11/2013 through 09/30/2013.

Effective Date: 09/30/2013.

Physical Loan Application Deadline Date: 11/14/2013.

EIDL Loan Application Deadline Date: 06/16/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Colorado, dated 09/14/2013 is hereby amended to establish the incident period for this disaster as beginning 09/11/2013 and continuing through 09/30/2013.

All other information in the original declaration remains unchanged.

(Catalog of Federal Domestic Assistance Numbers 59002 and 59008)

James E. Rivera,
Associate Administrator for Disaster Assistance.

[FR Doc. 2013-24416 Filed 10-9-13; 8:45 am]

BILLING CODE 8025-01-P